SECURITIES AND EXCHANGE COMMISSION

Submission for OMB Review, Comment Request

Upon written request, copies available from: Securities and Exchange Commission, Office of Filings and Information Services, 450 Fifth Street, NW., Washington, DC 20549.

Extension: Rule 34b-1.

File No. 270-305.

OMB Control No. 3235-0346.

Notice is hereby given that, pursuant to the Paperwork Reduction Act of 1995 [44 U.S.C. 3501 et seq.], the Securities and Exchange Commission (“Commission”) has submitted to the Office of Management and Budget (“OMB”) a request for extension of the previously approved collection of information discussed below.

Rule 34b-1 Under the Investment Company Act of 1940, Sales Literature Deemed To Be Misleading

Rule 34b-1 under the Investment Company Act of 1940 (“Investment Company Act”) [17 CFR § 270.34b-1] governs sales material that accompanies or follows the delivery of a statutory prospectus (“sales literature”). Rule 34b-1 deems to be materially misleading any investment company sales literature, required to be filed with the Commission by section 24(b) of the Investment Company Act,¹ that includes any information that purports to show the investment performance of the investment company unless it also includes performance data calculated in a manner prescribed by rule 482 under the Securities Act of 1933. Requiring the inclusion of such standardized performance data in sales literature is designed to prevent misleading performance claims by funds and to enable investors to make meaningful comparisons among fund performance claims.

¹ Sales literature addressed to or intended for distribution to prospective investors shall be deemed filed with the Commission for purposes of Section 24(b) of the Investment Company Act upon filing with a national securities association registered under Section 15A of the Securities Exchange Act of 1934 that has adopted rules providing standards for the investment company advertising practices of its members and has established and implemented procedures to review that advertising. See Rule 24b-3 under the Investment Company Act [17 CFR 270.24b-3].

It is estimated that there are approximately 545 respondents that file with the Commission approximately five responses annually, which include the information required by rule 34b-1. The burden from rule 34b-1 requires approximately 2.4 hours per response resulting from creating the information required under rule 34b-1. The total burden hours for rule 34b-1 would be 6,540 hours per respondent. The estimated annual burden of 6,540 hours represents an increase of 3,096 hours over the prior estimate of 3,444 hours. The increase in burden hours is attributable to an increase in the number of respondents from 287 to 545.

The estimates of average burden Hours are made solely for the purposes of the Act and are not derived from a comprehensive or even representative survey or study of the cost of Commission rules and forms.

The collection of information under rule 34b-1 is mandatory. The information provided by rule 34b-1 is not kept confidential. The Commission may not conduct or sponsor, and a person is not required to respond to, a collection of information unless it displays a current valid OMB control number.

General comments regarding the above information should be directed to the following persons: (i) Desk Officer for the Securities and Exchange Commission, Office of Information and Regulatory Affairs, Office of Management and Budget, New Executive Office Building, Washington, DC 20503; and (ii) Michael E. Bartell, Associate Executive Director, Office of Information Technology, Securities and Exchange Commission, 450 Fifth Street, NW., Washington, DC 20549. Comments must be submitted to OMB within 30 days of this notice.

Dated: February 14, 2000.
Margaret H. McFarland,
Deputy Secretary.

[FR Doc. 00-3937 Filed 1-17-00; 8:45 am]

BILLING CODE 8010-01-M